FARM CREDIT ADMINISTRATION

12 CFR Part 652

RIN 3052-AC83

Federal Agricultural Mortgage Corporation Funding and Fiscal Affairs; Farmer Mac Liquidity Management; Correction

AGENCY: Farm Credit Administration.

ACTION: Final rule; correction.

SUMMARY: The Farm Credit Administration (FCA) published a final rule in the Federal Register on November 1, 2013 to strengthen liquidity risk management at the Federal Agricultural Mortgage Corporation, improve the quality of assets in its liquidity reserves, and bolster its ability to fund its obligations and continue operations during times of economic, financial, or market adversity. This document corrects an inaccurate amendatory instruction in that rule.

DATES: Effective Date: This regulation will be effective 180 days after date of publication in the Federal Register, provided either or both Houses of Congress are in session for at least 30 calendar days after publication of this regulation in the Federal Register. We will publish a notice of the effective date in the Federal Register.

FOR FURTHER INFORMATION CONTACT:

Joseph T. Connor, Associate Director for Policy and Analysis, Office of Secondary Market Oversight, Farm Credit Administration, McLean, VA 22102-5090, (703) 883-4280, TTY (703) 883-4056;

or

Richard A. Katz, Senior Counsel, Office of General Counsel, Farm Credit Administration, McLean, VA 22102-5090, (703) 883-4020, TTY (703) 883-4056.

SUPPLEMENTARY INFORMATION: The FCA published a document in the Federal Register on November 1, 2013, (78 FR 65541) amending part 652. In FR Doc. 2013-25918, the following amendatory instruction on page 65552, in the third column, line 59 is corrected to read as follows:

2. Amend § 652.5 by adding alphabetically the following definitions to read as follows:

§ 652.5 Definitions.

* * * * *

Cash means cash balances held at Federal Reserve Banks, proceeds from traded-but-not-yet-settled debt, and deposit accounts at Federal Deposit Insurance Corporation-insured banks.

Contingency Funding Plan (CFP) is described in § 652.35(d)(2).

* * * * *

Liability Maturity Management Plan (LMMP) is described in § 652.35(d)(2)(iv).

* * * * *

Liquidity reserve is described in § 652.40.

* * * * *

Dated: May 15, 2014.
Dale L. Aultman,
Secretary, Farm Credit Administration Board.

[FR Doc. 2014-11662 Filed 5-19-14; 8:45 am]

BILLING CODE 6705-01-P